FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary

AA Cargo, 139 Mitchell Avenue, Suite 201, South San Francisco, CA 94080., Officer: Arben Hodza, CEO, CFO, Secretary (Qualifying Individual).

Non-Vessel-Operating Common Carrier and Ocean Freight Forwarder Transportation Intermediary

Hafen Consolidators USA, LLC, 103-01 NW 108th Avenue, Suite 11, Miami, FL 33178., Officers: Andres E. Valdano, Vice President (Qualifying Individual). Jose R. Hoppe, President.

Ocean Freight Forwarder—Ocean Transportation Intermediary

Pacific Glory USA, Inc., 5673 Old Dixie Highway, Suite 102, Forest Park, GA 30297.Officer: Kil Ra, CEO (Qualifying Individual).

Dated: March 5, 2010.
Rachel E. Dickon,
Assistant Secretary.

[FR Doc. 2010-5100 Filed 3-9-10; 8:45 am]

BILLING CODE 6730-01-P